DEPARTMENT OF THE INTERIOR

Bureau of Indian Affairs

Education Facilities Replacement Construction

AGENCY: Bureau of Indian Affairs, Interior.

ACTION: Call for applications and notice of revised instructions and ranking criteria.

SUMMARY: This Notice is the official call for applications for Bureau-funded education facilities replacement construction. It also explains how to obtain copies of the publication, “Instructions and Application for Replacement School Construction 2001,” which describes the process the Bureau is using in 2001 to rate and rank applications submitted for education facilities replacement construction projects. Applications for construction of Bureau-funded replacement education facilities may be submitted in accordance with the 2001 instructions.

DATES: New applications and requests to reevaluate applications from the previous application process, conducted in 1999, must be received on or before August 21, 2001.

ADDRESSES: Copies of the instructions and ranking criteria are available upon request from the BIA Office of Indian Education Programs at 1849 C Street NW., MS-3512 MIB, Washington, DC 20240 or from 201 Third St. NW., Suite 510, Albuquerque, New Mexico, 87102. The instructions are also available from BIA Area and Education line offices and from the BIA Office of Facilities Management and Construction, 201 Third St. N.W., Suite 500, Albuquerque, New Mexico, 87102.

All applications must be submitted to the BIA Office of Indian Education Programs at 201 Third St., NW., Suite 510, Albuquerque, New Mexico, 87102.

FOR FURTHER INFORMATION CONTACT: Questions regarding applications may be submitted to the attention of Dr. Kenneth G. Ross, Special Assistant to the Director, Office of Indian Education Programs, 201 Third St. N.W., Suite 510, Albuquerque, New Mexico, 87102, (505) 346-6544, Fax (505) 346-6553 or to applicable Education Line Officers whose addresses and phone numbers are available in Appendix A of the application document.

SUPPLEMENTARY INFORMATION: This Notice is the official call for applications for construction of Bureau-funded replacement education facilities. The 2001 application evaluation and ranking process was developed in consultation with Tribal organizations and incorporates revisions to the 1999 application instructions.

In August 1999, we used a process described in “Instructions and Application for Replacement School Construction 1999 Revision 6—2/26/99” to evaluate, rate, and rank applications for education facilities replacement construction projects. As a result of that process, we published a notice in the Federal Register on January 31, 2000 (65 FR 4623), establishing the Education Facilities Replacement Construction Priority List as of FY 2000 (List). On January 9, 2001, we published a notice in the Federal Register (66 FR 1689), expanding the FY 2000 List by adding seven more schools. These seven schools received the next highest rankings after the 10 educational facilities that were identified in the 1999 application process that established the FY 2000 Priority List.

We sent copies of the Draft 2001 Instructions and Application for Replacement School Construction 2001, in March 2001 to all BIA schools and to schools that receive BIA funds under contract or grant (Catalog of Federal Domestic Assistance Program Number: 15.062 “Replacement and Repair of Indian Schools.”) and conducted tribal consultation on the draft document in May 2001. We have considered all verbal comments and have reviewed all written comments received, and we have incorporated some of the comments in the revised instructions referred to in this notice. The revised instructions entitled, “Instructions and Application for Replacement School Construction 2001, May 2001” is available at the address provided in the ADDRESSES section. We will send copies of the revised instructions to all BIA schools and schools that receive BIA funds under contract or grant.

Applications for construction of Bureau-funded replacement education facilities may be submitted in accordance with the 2001 revised instructions. In lieu of submitting a new application for an education facility replacement school construction project, a tribe may revise and update the application it submitted in the 1999 process.

The process will not provide for new school starts, grade level expansions, charter schools, nor satellite extensions. The procedures will continue to provide continuity, objectivity and accountability in the priority rankings for construction of replacement education facilities; address the handling of emergency needs; and accommodate Federal/Tribal financial partnerships for education construction projects. As in the 1999 application evaluation process, a Tribal organization may indicate to what extent it will share in the construction costs of its educational facilities replacement construction project through the use of non-Federal resources. To participate in the FY 2001 cost sharing program, a Tribe is required to contribute a tribal share equal to 50% of the total replacement school construction costs [(Pub. L. 106-291, Sec. 153(b)(3)(B)]. Congress identified Conehatta Elementary School of the Mississippi Band of Choctaw Indians as the first education facility to cost share in a Tribal school construction demonstration program [Senate Report 106-312, pg. 53; House Report 106-914, pg.147; Public Law 106-291, Sec. 153].

The BIA will evaluate and rank applications for education facilities replacement construction projects through the use of narrative submitted by applicants, from data in the BIA's national Facilities Management Information System (FMIS), and from other BIA information sources.

BIA's Office of Indian Education Programs' Line Officers will receive training on the 2001 instructions and ranking criteria for all schools under their administrative jurisdictions and will provide technical assistance to the schools under their administrative jurisdictions. In addition to technical assistance available from the Bureau, applicants may use commercial service providers to prepare their applications. The Bureau can provide referrals, upon request, which the applicants may choose to contact independently.

The BIA will provide Bureau-funded schools with instructions and application forms. We will send all potential applicants the application forms and instructions by certified mail. Tribes and BIA-funded school boards will receive advance, written notice from Education Line Officers of replacement school construction application training session dates, times, and locations for Tribes and schools under their respective jurisdictions. The Education Line Officers will conduct training for applicants on how to complete their applications. Applications will be accepted beginning August 1, 2001, until August 21, 2001. We will use the criteria in the 2001 instructions to review and evaluate all applications that we receive on or before the deadline.

This Notice is published under authority delegated by the Secretary of the Interior to the Assistant Secretary for Indian Affairs in the Departmental Manual at 209 DM 8. 25 U.S.C. 2005(c) directed BIA to publish, in the Federal Register, the system used to determine priorities for school construction projects and to submit a current priority ranking for school construction projects at the time any budget request is presented to Congress. The Conference Report for the FY 1992 Interior and Related Agencies Appropriation Act, House Report No. 256, 102d Cong., 1st Sess. 46 (1991), indicated that Congress wanted the Department to revise the priority ranking process for new school construction. The Conference Report said that BIA should emphasize tribal consultation and improve the objectivity of the ranking process, provide continuity to the priority ranking list, and provide procedures for handling emergency needs.

Dated: May 25, 2001.
James H. McDivitt,
Deputy Assistant Secretary, Indian Affairs (Management).

[FR Doc. 01-14605 Filed 6-8-01; 8:45 am]

BILLING CODE 4310-02-P